DEPARTMENT OF TRANSPORTATION

Federal Aviation Administration

Noise Exposure Map Notice

AGENCY: Federal Aviation Administration, DOT.

ACTION: Notice

SUMMARY: The Federal Aviation Administration (FAA) announces its determination that the noise exposure maps submitted by the Wayne County Airport Authority under the provisions of the Aviation Safety and Noise Abatement Act (Act), 49 U.S.C. 47501, et seq. and the Federal Aviation Regulations (FAR), 14 CFR part 150 (part 150) are in compliance with applicable requirements.

DATES: The effective date of the FAA's determination on the noise exposure maps is March 7, 2006.

FOR FURTHER INFORMATION CONTACT: Mr. Ernest Gubry, Detroit Airports District Office, 11677 South Wayne Road, Suite 107, Romulus, Michigan 48174, 734-229-2905.

SUPPLEMENTARY INFORMATION: This notice announces that the FAA finds that the noise exposure maps submitted for Detroit Metropolitan Wayne County Airport are in compliance with applicable requirements of part 150, effective March 7, 2006.

Under 49 U.S.C. 47503 of the Act, an airport operator may submit noise exposure maps to the FAA which meet applicable regulations and which depict non-compatible land use as of the date of submission of such maps, a description of projected aircraft operations, and the ways in which such operations will affect such maps. The Act requires such maps to be developed in consultation with interested and affected parties in the local community agencies, and persons using the airport.

An airport operator who has submitted noise exposure maps that are found by FAA to be in compliance with the requirements of Part 150, promulgated pursuant to the Act, may submit a noise compatibility program for FAA approval which sets forth the measures the operator has taken or proposes to take to reduce existing non-compatible uses and prevent the introduction of additional non-compatible uses.

The FAA has completed its review of the noise exposure maps and accompanying documentation submitted by the Wayne County Airport Authority. The documentation that constitutes the “noise exposure maps” as defined in 14 CFR 150.7 includes: Existing 2004 Noise Exposure Map (FAR Part 150 Noise Exposure Map Submittal, Figure D25) and Future Baseline 2011 Noise Exposure Map (FAR Part 150 Noise Exposure May Submittal, Figure D28). The FAA has determined that these noise exposure maps and accompanying documentation are in compliance with applicable requirements. This determination is effective on March 7, 2006. FAA's determination on an airport operator's noise exposure maps is limited to a finding that the maps were development in accordance with the procedures contained in appendix A of part 150. Such determination does not constitute approval of the applicant's data, information or plans, or a commitment to approve a noise compatibility program or to fund the implementation of that program.

If questions arise concerning the precise relationship of specific properties to noise exposure contours depicted on a noise exposure map submitted under section 47503 of the Act, it should be noted that the FAA is not involved in any way in determining the relative locations of specific properties with regard to the depicted noise contours, or in interpreting the noise exposure maps to resolve questions concerning, for example, which properties would be covered by the provisions of section 47506 of the Act. These functions are inseparable from the ultimate land use control and planning responsibilities of local government. These local responsibilities are not changed in any way under part 150 or through FAA's review of noise exposure maps. Therefore, the responsibility for the detailed overlaying of noise exposure contours onto the map depicting properties on the surface rests exclusively with the airport operator that submitted those maps, or with those public agencies and planning agencies with which consultation is required under section 47503 of the Act. The FAA has relied on the certification by the airport operator, under § 150.21 of FAR part 150, that the statutorily required consultation has been accomplished.

Copies of the full noise exposure map documentation and of the FAA's evaluation of the maps are available for examination at the following locations:

Federal Aviation Administration Detroit Airports District Office 11677 South Wayne Road, Suite 107, Romulus, Michigan 48174.

Detroit Metropolitan Wayne County Airport Noise House 32629 Pennsylvania Avenue, Romulus, Michigan 48174.

Questions may be directed to the individual named above under the heading FOR FURTHER INFORMATION CONTACT.

Issued in Romulus, Michigan, March 7, 2006.
Irene R. Porter,
Manager, Detroit Airport District Office, Great Lakes Region.

[FR Doc. 06-2668 Filed 3-20-06; 8:45 am]

BILLING CODE 4910-13-M